ELECTION ASSISTANCE COMMISSION

Notice of Federal Advisory Committee Charter Renewals

AGENCY: Election Assistance Commission.

ACTION: Notice of Federal Advisory Committee Charter renewals.

SUMMARY: In accordance with the Federal Advisory Committee Act, the purpose of this notice is to announce that the Election Assistance Commission (EAC) has renewed the charters for the Board of Advisors, the Standards Board, the Technical Guidelines Development Committee, and Local Leadership Council for a two-year period through April 11, 2027. The Board of Advisors, the Standards Board, and the Technical Guidelines Development Committee are statutorily required federal advisory committees created by the Help America Vote Act of 2002. The Local Leadership Council is a discretionary federal advisory committee, originally established by the EAC on June 8, 2021.

DATES: The effective date of the Charter renewals is April 11, 2025.

ADDRESSES: A complete copy of the Charters are available from the EAC in electronic format on the EAC's website at https://www.eac.gov/about/advisory-boards. To obtain a paper copy of the Charters, please mail your request to the U.S. Election Assistance Commission FACA Boards Management at 633 3rd Street NW, Suite 200, Washington, DC 20001.

FOR FURTHER INFORMATION CONTACT: Kristen Muthig, EAC Director of Communications, 633 3rd Street NW, Suite 200, Washington, DC 20001; telephone: (202) 897-9285; email: kmuthig@eac.gov.

SUPPLEMENTARY INFORMATION: The Board of Advisors, the Standards Board, and the Technical Guidelines Development Committee are Federal advisory committees created by statute with a stated purpose to advise the EAC through review of the voluntary voting systems guidelines, review of voluntary guidance, and review of best practices recommendations. EAC Commissioners approved charter renewals on April 9, 2025. The filing date is April 11, 2025. The Local Leadership Council is a discretionary advisory committee and is made up of 100 local election officials who are current or former officers in each state's local election official association. The EAC Commissioners determined that the continuation of the committee is essential to the conduct of agency business and in the public interest. Consultation with the GSA Committee Management Secretariat was completed April 3, 2025. EAC Commissioners approved charter renewal on April 9, 2025. The filing date is April 11, 2025. In accordance with the Federal Advisory Committee Act, Public Law 92-463, as amended, this notice advises interested persons of the renewal of these Charters.

Camden Kelliher,
General Counsel, U.S. Election Assistance Commission.

[FR Doc. 2025-06341 Filed 4-14-25; 8:45 am]

BILLING CODE 4810-71-P